DEPARTMENT OF TRANSPORTATION

Research and Special Programs Administration (RSPA), DOT

[Docket No. RSPA-99-5611; Notice 18]

Pipeline Safety: Northwest Pipeline Corporation Approved for Pipeline Risk Management Demonstration Program

AGENCY: Office of Pipeline Safety, DOT.

ACTION: Notice of risk demonstration project approval and finding of no significant impact.

SUMMARY: The Research and Special Programs Administration's (RSPA) Office of Pipeline Safety (OPS) has issued a Risk Management Demonstration Project Order authorizing Northwest Pipeline Corporation (a part of Williams Gas Pipeline) to participate in the Pipeline Risk Management Demonstration Program. OPS has also made a finding that Northwest's demonstration project will have no significant impacts on the environment.

ADDRESSES: Comments on this or any other demonstration project will be accepted in the Docket throughout the 4-year demonstration period. Comments should be sent to the Dockets Facility, U.S. Department of Transportation, Plaza 401, 400 Seventh Street, SW, Washington, DC 20590-0001, or you can E-Mail your comments to ops.comments@rspa.dot.gov. Comments should identify the docket number RSPA-99-5611. Persons should submit the original comment document and one (1) copy. Persons wishing to receive confirmation of receipt of their comments must include a self-addressed stamped postcard. The Dockets Facility is located on the plaza level of the Nassif Building in Room 401, 400 Seventh Street, SW, Washington, DC. The Dockets Facility is open from 10 a.m. to 5 p.m., Monday through Friday, except on Federal holidays.

FOR FURTHER INFORMATION CONTACT: Elizabeth Callsen, OPS, (202) 366-4572, regarding the subject matter of this document. Contact the Dockets Unit, (202) 366-5046, for docket material. Comments may also be reviewed on line at the DOT Docket Management System web site at http://dms.dot.gov/.

SUPPLEMENTARY INFORMATION:

Project Authorization

On January 11, 2000, OPS, pursuant to 49 U.S.C. 60126, issued Northwest Pipeline Corporation a Risk Management Demonstration Project Order authorizing Northwest to conduct a risk management project on its interstate natural gas transmission pipeline system that extends from Sumas, Washington to the San Juan Basin in Colorado. OPS has determined, after a comprehensive review of Northwest's demonstration project, that the project is expected to provide superior safety.

More detailed descriptions of all aspects of the Northwest demonstration project, including the OPS rationale for approving the project, are available in the following documents:

(1) 64 FR 67602, “Pipeline Safety: Intent to Approve Project and Environmental Assessment for the Northwest Pipeline Corporation Pipeline Risk Management Demonstration Project,” December 2, 1999.

(2) “Demonstration Project Prospectus: Northwest Pipeline Corporation,” available by contacting Elizabeth M. Callsen at 202-366-4572. Includes maps of the demonstration segments.

(3) “Northwest Pipeline Corporation—Application for DOT-OPS Risk Management Demonstration Program,” March 18, 1999, available via the Pipeline Risk Management Information System (PRIMIS), on the OPS Home Page at http://ops.dot.gov.

(4) Northwest Pipeline Corporation Final Work Plan, December 17, 1999, available via the Pipeline Risk Management Information System (PRIMIS), on the OPS Home Page at http://ops.dot.gov.

(5) “Risk Management Demonstration Project Order” for Northwest Pipeline Corporation, January 11, 2000.

Finding of No Significant Impact (FONSI)

OPS has reviewed Northwest's project for conformity with section 102(2)(c) of the National Environmental Policy Act (42 U.S.C. 4332), the Council on Environmental Quality implementing regulations (40 CFR 1500-1508), and Department of Transportation Order 5610.1c, Procedures for Considering Environmental Impacts. OPS conducted an Environmental Assessment of Northwest's project (64 FR 67602, “Pipeline Safety: Intent to Approve Project and Environmental Assessment for the Northwest Pipeline Corporation Pipeline Risk Management Demonstration Project,” December 2, 1999).

OPS received no public comment on the Environmental Assessment. Based on the analysis and conclusions reached in the Environmental Assessment and the analyses conducted in the above-listed documents, OPS has determined that there are no significant impacts on the environment associated with this action. The Environmental Assessment and the other above-listed documents are incorporated by reference into this FONSI.

To summarize, OPS believes that the risk control activities Northwest is proposing for the Demonstration Project will provide superior protection for people living near the Northwest pipeline system when compared to current regulatory requirements. Although the project is expected to provide environmental benefits, due to the minimal environmental impact associated with gas pipeline failures, these beneficial impacts are not expected to be significant. The additional environmental protection comes primarily from reducing the likelihood that pipeline failures will occur. If the number of failures is reduced, the cumulative environmental damage from these failures will also be reduced. The reduction in the likelihood of future pipeline failures is expected to be realized system-wide through several activities and programs that exceed regulatory requirements, including:

• An expanded and enhanced geological hazards program. Northwest should improve its ability to anticipate when land movement near its pipeline might occur, and take appropriate action to prevent failure.

• The stress corrosion cracking coupon monitoring program. Northwest should be able to better understand when this condition might occur, and thus take appropriate remedial action.

In addition, Northwest is proposing specific activities to reduce the risk from increased population at the specific sites identified in the Environmental Assessment. These activities include:

• Enhanced third party damage prevention activities should reduce the likelihood that excavators will damage the line.

• Internal inspection and repair of anomalies will produce additional protection from corrosion, construction defects, and prior outside force damage.

• Installation of remote operators on block valves near areas of relatively high land movement potential. These remotely operated valves will allow the gas control center to rapidly isolate a section of the line if a failure occurs, thereby minimizing the duration of any fire that might occur.

• Improved training and exercises with emergency personnel on how to respond effectively to pipeline failures.

More detailed information on these risk control activities and their expected impacts is available in the Environmental Assessment referenced previously.

Issued in Washington, DC on March 1, 2000.
Richard B. Felder,
Associate Administrator for Pipeline Safety.

[FR Doc. 00-5493 Filed 3-6-00; 8:45 am]

BILLING CODE 4910-60-P